FEDERAL COMMUNICATIONS COMMISSION

47 CFR Part 4

[PS Docket Nos. 15-80 and 13-75, ET Docket No. 04-35, FCC 24-73 FR ID 238688]

Disruptions to Communications; Improving 911 Reliability; Concerning Disruptions to Communications

AGENCY: Federal Communications Commission.

ACTION: Denial of petition for reconsideration.

SUMMARY: In this document, the Federal Communications Commission (FCC) adopted an Order on Reconsideration that denies the petition for reconsideration filed by Competitive Carriers Association (CCA) with respect to the Second Report and Order in this proceeding.

DATES: Effective August 21, 2024.

FOR FURTHER INFORMATION CONTACT: For additional information, contact Barbara Kunkel, Attorney Advisor, Policy and Licensing Division, Public Safety and Homeland Security Bureau, (202) 418-0671 or via email at Barbara.Kunkel@fcc.gov.

SUPPLEMENTARY INFORMATION: This is a summary of the Commission's Order on Reconsideration, FCC 24-73, adopted on July 10, 2024, and released on July 11, 2024. The complete text of this document is available for public inspection on the Commission's website at https://docs.fcc.gov/public/attachments/FCC-24-73A1.pdf. To request materials in accessible formats for people with disabilities (braille, large print, electronic files, audio format), send an email to FCC504@fcc.gov or call the Consumer & Governmental Affairs Bureau at (202) 418-0530 (voice).

Synopsis

1. The Order on Reconsideration denies the petition for reconsideration of the Second Report and Order, 88 FR 9756 (Feb. 15, 2023), filed by CCA on March 17, 2023. In the Second Report and Order the Commission adopted rules to harmonize the 911 outage notification requirements for originating service providers (OSPs) and covered 911 service providers. Specifically, the Second Report and Order required both OSPs and covered 911 service providers to notify Public Safety Answering Points (PSAPs) of outages that potentially affect them as soon as possible, but no later than 30 minutes after discovering the outage. The Commission also required OSPs and covered 911 service providers to maintain accurate and up-to-date PSAP contact information for the purpose of providing 911 outage notifications.

2. CCA sought reconsideration of two aspects of the Second Report and Order as they apply to OSPs. First, CCA argued that it is unreasonable to require OSPs to initially notify PSAPs of 911 outages within 30 minutes of discovering an outage. CCA further argued that OSP compliance with the 30-minute rule (1) is infeasible or impossible, (2) should not apply to outages attributable to third-party vendors, (3) will cause over-notification to PSAPs, and (4) will overburden small and rural carriers. CCA argued instead that the Commission should revert to the previous rule that required OSPs to notify PSAPs “as soon as possible” with no time limitation. In the alternative, if the Commission retains the 30-minute rule, CCA argued that the Commission should define “discovery” of an outage to be when an OSP receives notification of the outage from its third-party vendor or service provider, rather than when the third-party vendor or service provider itself discovers the outage. CCA also argued that the Commission should modify the 30-minute rule to deem OSPs compliant if they begin notifying affected PSAPs within 30 minutes, even if they do not complete notification to all potentially affected PSAPs within that timeframe. Second, CCA requested that the Commission reconsider the requirement that OSPs use “special diligence” to identify, maintain, and annually confirm contact information for PSAPs in their service areas. CCA argued that the Commission materially erred in estimating the cost to OSPs of complying with this requirement, and that the rule will overburden small and rural carriers. Accordingly, CCA asserted that the Commission should create and operate a centralized PSAP contact information database rather than requiring OSPs to maintain PSAP contact information themselves.

3. Regarding the application of a 30-minute initial PSAP notification deadline to OSPs, the Commission found CCA's arguments unpersuasive and concluded that the Commission was reasonable in adding a time limit to the OSP notification rules. The Commission found in the Second Report and Order that in the absence of a time limit, the “as soon as possible” standard does not incentivize OSPs to provide timely outage notifications, but instead incentivizes them to take a passive approach to monitoring and detecting outages. In the Order on Reconsideration, the Commission observed that delays in receiving outage notifications undermine the ability of PSAPs to provide timely information to the public on available means to contact emergency services when an outage impacts 911 service, and that reverting to a notification standard with no time limit, as CCA advocated, would exacerbate the very harm the rule was adopted to address. The Commission also disagreed with CCA's contention that a 30-minute time limit on OSP notifications is infeasible or unreasonable. The Commission found that CCA and supporting commenters provided no basis for reconsidering the Commission decision in the Second Report and Order rejecting arguments that 30 minutes is an insufficient amount of time for OSPs to obtain initial information about outages and provide notification to PSAPs. In the Order on Reconsideration, the Commission explained that as a practical matter, providers will have at least an hour, and potentially more, from the start of any outage to gather information to include in the initial outage notifications to PSAPs, and that the purpose of the initial notification is not to provide complete information about the outage, but to serve as a preliminary notice of a potential problem to a 911 special facility. With respect to OSP responsibility for third-party discovery of an outage, in the Order on Reconsideration, the Commission determined that the Second Report and Order properly defined an OSP's discovery of an outage to include when the outage is discovered by its third-party vendor or service provider. In addition, the Commission in the Order on Reconsideration explained that an OSP may satisfy its obligation to notify a PSAP of an outage “if the party that actually discovers the outage—which may be a third party—notifies the PSAP within these timeframes.” With respect to over-notification to PSAPs, the Commission rejected CCA's contention that the 30 minute rule will force OSPs to send blanket notifications to PSAPs that may not be directly affected by an outage, leading to over-notification, notification fatigue, and overburdening of PSAPs. The Commission found that proper application of the rule should limit the risk of over-notification, citing the reporting thresholds in the Part 4 rules and that nothing precludes OSPs from working together to establish more coordinated and efficient outage notification processes that reduce the likelihood of unnecessary notifications. Additionally, even if the rule results in occasional unnecessary notifications, the Commission found that the overriding objective is for OSPs to notify PSAPs to better enable PSAPs to more quickly reduce the impact of an outage, including the PSAPs' ability to coordinate emergency response resources with first responders. Finally, with regard to CCA's assertion that the 30 minute requirement will overburden small or rural carriers, the burden on smaller carriers to provide notifications is likely to be less than for larger carriers because the notification requirement is based in part on potential user minutes impacted. The Commission explained that OSPs that operate lines that serve fewer customers would have to experience longer outages to reach the user-minute threshold required for notification, which effectively allows more time for them to investigate the outages.

4. Regarding using special diligence to maintain up-to-date PSAP contact information, the Commission rejected CCA's proposal to have the Commission create a centralized database before OSPs would be required to exercise special diligence in maintaining PSAP contact information. The Commission noted that this compliance obligation can be readily met by other means, including by the service providers developing their own database capabilities rather than waiting for the Commission to do so; PSAP contact information is currently available to OSPs through a variety of sources; and CCA's proposal ignores the fact that the rules have long required OSPs to contact PSAPs in the event of an outage, which necessitates their having current PSAP contact information. The Commission declined to establish a safe harbor because it would act as a disincentive for OSPs to create methods to affirmatively confirm PSAP contact information, effectively nullifying the special diligence standard. The Commission also was unpersuaded by arguments that the special diligence standard for maintaining up-to-date PSAP contact information is confusing and fails to provide certainty on how to comply; and the Commission found that the Second Report and Order fully explained the special diligence standard and properly rejected commenters' proposed alternatives. Regarding the burden on small and rural carriers, the Commission found, contrary to CCA's arguments, that the Second Report and Order correctly took the interests and capabilities of small and rural carriers into account, in adopting the special diligence requirement for maintaining PSAP contact information. Finally, the Commission reviewed the Second Report and Order cost estimate in light of CCA's arguments that the Commission materially erred in estimating the compliance costs for providers to maintain up-to-date PSAP contact information, and the Commission made upward revisions to better reflect the cost information. Although this change resulted in a considerable increase in costs, the Commission found that costs are still low enough for the Commission to conclude that the benefits outweigh the costs of the requirements.

I. Procedural Matters

5. Paperwork Reduction Act Analysis. This Order on Reconsideration does not contain any new or modified information collection requirements subject to the Paperwork Reduction Act of 1995, Public Law 104-13. Thus, it does not contain any new or modified information collection burden for small business concerns with fewer than 25 employees, pursuant to the Small Business Paperwork Relief Act of 2002, Public Law 107-198, see 44 U.S.C. 3506(c)(4).

6. Congressional Review Act. The Commission will not send a copy of this Order on Reconsideration to Congress and the Government Accountability Office pursuant to the Congressional Review Act, see 5 U.S.C. 801(a)(1)(A), because no rule was adopted or amended.

7. Regulatory Flexibility Act Analysis. In the Second Report and Order, the Commission provided a Final Regulatory Flexibility Analysis pursuant to the Regulatory Flexibility Act of 1980, as amended (RFA). We received no petitions for reconsideration of that Final Regulatory Flexibility Analysis. In this present Order on Reconsideration, the Commission promulgates no additional final rules. Our present action is, therefore, not an RFA matter.

II. Ordering Clauses

8. Accordingly, it is ordered that the Petition for Reconsideration filed on March 17, 2023, by CCA is denied.

9. It is further ordered that this Order on Reconsideration shall be effective upon publication in the Federal Register.

Federal Communications Commission
Marlene Dortch,
Secretary.

[FR Doc. 2024-18606 Filed 8-20-24; 8:45 am]

BILLING CODE 6712-01-P